DEPARTMENT OF HEALTH AND HUMAN SERVICES

Administration for Community Living

Agency Information Collection Activities; Submission for OMB Review; Public Comment Request; No Wrong Door (NWD) System Management Tool

AGENCY: Administration for Community Living (ACL), HHS.

ACTION: Notice.

SUMMARY: The Administration for Community Living is announcing that the proposed collection of information listed above has been submitted to the Office of Management and Budget (OMB) for review and clearance as required by the Paperwork Reduction Act of 1995. This 30-Day notice collects comments on the information collection requirements related to ACL's Aging and Disability Resource Center/No Wrong Door System (ADRC/NWD) New Data Collection (ICR New).

DATES: Submit written comments on the collection of information by April 18, 2019.

ADDRESSES: Submit written comments on the collection of information by:

(a) email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Joseph Lugo at joseph.lugo@acl.hhs.gov or 202-795-7391.

SUPPLEMENTARY INFORMATION: In compliance with 44 U.S.C. 3507, ACL has submitted the following proposed collection of information to OMB for review and clearance.

The NWD System Management Tool (NWD MT) provides a platform documenting key elements that are necessary to evaluate the progress of the NWD System model and to understand and document the extent to which a state's NWD System is streamlining and coordinating access to LTSS through four core functions of State Governance and Administration, Public Outreach and Coordination with Key Referral Sources, Person-Centered Counseling, and Streamlined Eligibility for Public Programs.

In addition, this tool will include data collection for the Veteran Directed Care (VDC) program, an evidence-based self-directed program where person-centered counselors from aging and disability network agencies within a state's NWD System provide facilitated assessment and care planning, arrange fiscal management services and provide ongoing counseling and support to Veterans, their families and caregivers. The VDC too will collect qualitative and quantitative data elements necessary to evaluate the impact of the VDC program.

The NWD MT and the VDC tool will enable ACL and its partners to collect and analyze data elements necessary to assess the progress of the NWD System model, track performance measures, and identify gaps and best practices. These tools have been designed in close collaboration with states and are intended to simplify grant reporting requirements to reduce burden on local and state entities and will provide a consistent, streamlined and coordinated statewide approach to help states govern their NWD System and manage their programs efficiently.

Comments in Response to the 60-Day Federal Register Notice

A notice was published in the Federal Register on November 2, 2018, Volume 83, Number 213, pp. 55186-55187. Three emails were received with comments.

In addition to the public comments, feedback on the tools were sought from the following:

• ACL Performance and Evaluation subject matter experts.

• VHA and CMS subject matter experts.

• Subject-matter experts at state agencies representing Aging, Intellectual/Developmental Disabilities, Physical Disabilities, and Medicaid.

• Grantee focus groups and workgroups (with fewer than 9 participants).

ACL's response to the comments received are noted in the table below:

Data collection form | Comment | ACL response
NWD Management Tool | I understand that although not required, health information shared solution models that are multi-state adoptable is key to the NWD system, tracking, and monitoring systems of the I/DD care and services. Please feel free to share this correspondence with team members/stakeholders whom we can speak with in regards to furthering contact with regarding healthcare technology expansion within the I/DD industry | ACL appreciates the commenter's views on healthcare technology and I/DD care and services, however ACL finds this comment to be unrelated to the proposed data collection tools.
NWD Management Tool | In State Level Question 5 and Local Level Question 1 related to funding of the NWD System, it is unclear if the dollars and percentages to be reported are actual dollars or if that can include in-kind contributions. One of the choices in those two reporting tables under Federal Funding is “Other ACL Programs” which references Assistive Technology. A State/Territory AT Program could make an in-kind contribution to the state or local level NWD system, e.g., they could provide a refurbished AT device allowing an individual to remain in their home as part of their reuse program (state level AT Act activity) or they could provide training on AT for NWD staff/partners (state leadership AT activity). It is highly unlikely there would be actual Section 4 AT Act dollars being provided to the NWD state system budget as the NWD System functions as outlined for these data points are not authorized activities for use of Section 4 funds under the AT Act. It would be helpful to clarify if in-kind contributions are or are not to be reported in both of these tables | ACL appreciates this comment and fully understands the authorizations of Section 4 AT Act dollars. The State Level question 5 and Local Level Question 1 are meant to capture actual expenditures and dollars supporting NWD System functions, not in-kind contributions. Therefore, in response to this comment, ACL proposes to edit these questions for clarification and remove Assistive Technology as an example under “Other ACL Programs.”
NWD Management Tool | The level of detail proposed is tremendous, with no permanent federal funding source for the programs. The number of divisions within Nebraska DHHS & Nebraska Veterans Administration will require significant coordination. If the information remains as proposed, I would suggest a long lead time in collection requirements. Or parceled out requests and the ability for each division to address their area of expertise | ACL appreciates this comment and understands that states and aging and disability network agencies will need support (e.g., training, grant funding, etc.) before beginning the data collection. The state's NWD Lead Agency will determine which state and local partners would contribute to the data collection. Various agencies and divisions may prepare for data submission in phases, as determined by the state.

The proposed form(s) may be found on the ACL website at: https://www.acl.gov/about-acl/public-input.

Estimated Program Burden

ACL estimates the burden of this collection of information as 112 hours for state level staff, 7,968 hours for local agency staff and 2,400 hours for VDC program providers for a total of 10,480 hours. This burden estimate is calculated based upon a sample of states and program providers testing the NWD MT and VDC Tool. The estimated response burden includes time to review the instructions, gather existing information, and complete and review the data entries in a web-based system.

Respondent/data collection activity | Number of respondents | Responses per respondent | Hours per response | Annual burden hours
NWD Management Tool data collection and entry—State Level | 56 | 2 | 1.0 | 112
NWD Management Tool data collection and entry—Local Level | 996 | 2 | 4.0 | 7,968
Veteran Directed Care Tool | 400 | 12 | 0.5 | 2,400
Total: | 1,452 | 6, 904 |  | 10,480

Dated: March 13, 2019.
Lance Robertson,
Administrator and Assistant Secretary for Aging.

[FR Doc. 2019-05115 Filed 3-18-19; 8:45 am]

BILLING CODE 4154-01-P